ENVIRONMENTAL PROTECTION AGENCY

40 CFR Part 52

[KS-192-1192; FRL-7580-6]

Approval and Promulgation of Air Quality Implementation Plans; Kansas Update to Materials Incorporated by Reference

AGENCY: Environmental Protection Agency (EPA).

ACTION: Final rule; notice of administrative change.

SUMMARY: EPA is updating the materials submitted by Kansas that are incorporated by reference (IBR) into the state implementation plan (SIP). The regulations affected by this update have been previously submitted by the state agency and approved by EPA. This update affects the SIP materials that are available for public inspection at the Office of the Federal Register (OFR), Office of Air and Radiation Docket and Information Center, and the Regional Office.

EFFECTIVE DATE: This action is effective November 14, 2003.

ADDRESSES: SIP materials which are incorporated by reference into 40 CFR part 52 are available for inspection at the following locations: Environmental Protection Agency, Region VII, 901 North 5th Street, Kansas City, Kansas 66101; Office of Air and Radiation Docket and Information Center, Room B-108, 1301 Constitution Avenue, NW., (Mail Code 6102T), Washington, DC 20460, and Office of the Federal Register, 800 North Capitol Street, NW., Suite 700, Washington, DC.

FOR FURTHER INFORMATION CONTACT: Evelyn VanGoethem at (913) 551-7659, or at vangoethem.evelyn@epa.gov.

SUPPLEMENTARY INFORMATION: The SIP is a living document which the state can revise as necessary to address the unique air pollution problems in the state. Therefore, EPA from time to time must take action on SIP revisions containing new and/or revised regulations as being part of the SIP. On May 22, 1997 (62 FR 27968), EPA revised the procedures for incorporating by reference Federally-approved SIPs, as a result of consultations between EPA and the Office of Federal Register (OFR). The description of the revised SIP document, IBR procedures and “Identification of plan” format are discussed in further detail in the May 22, 1997, Federal Register document.

On February 12, 1999, EPA published a document in the Federal Register (64 FR 7091) beginning the new IBR procedure for Kansas. In today's document EPA is updating the IBR material.

EPA is also making minor corrections to the table in § 52.870(c) as follows:

On June 27, 2000 (65 FR 39551), we inadvertently removed a rule heading and K.A.R. 28-19-20 from the table. K.A.R. 28-19-20 had previously been incorporated by reference and was not rescinded by the June 27, 2000, action. We are restoring the heading and K.A.R. 28-19-20 into the table.

On May 18, 1988 (53 FR 17700) we updated K.A.R. 28-19-64. In the table under § 52.870(c) the Federal Register page citation for K.A.R. 28-19-64 is shown as being 53 FR 17000, and it is being corrected to 53 FR 17700.

On October 30, 2002 (67 FR 66060) we approved a VOC rule, K.A.R. 28-19-714, and revoked K.A.R. 28-19-75. K.A.R. 28-19-714 was incorrectly located in the table. K.A.R. 28-19-714 should be placed immediately before rule K.A.R. 28-19-717.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045, “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 13, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects 40 CFR Part 52

Environmental protection, Air pollution control, Carbon monoxide, Incorporation by reference, Intergovernmental relations, Lead, Nitrogen dioxide, Ozone, Particulate matter, Reporting and recordkeeping requirements, Sulfur oxides, Volatile organic compounds.

Dated: October 21, 2003.
William Rice,
Acting Regional Administrator, Region 7.

Chapter I, title 40, Code of Federal Regulations, is amended as follows:

PART 52—[AMENDED]

1. The authority citation for part 52 continues to read as follows:

Authority: 42 U.S.C. 7401 et seq.

Subpart R—Kansas

2. In § 52.870 paragraphs (b), (c), (d) and (e) are revised to read as follows:

§ 52.870 Identification of plan.

* * * * *

(b) Incorporation by reference. (1) Material listed in paragraphs (c), (d) and (e) of this section with an EPA approval date prior to October 1, 2003, was approved for incorporation by reference by the Director of the Federal Register in accordance with 5 U.S.C. 552(a) and 1 CFR part 51. Material is incorporated as it exists on the date of the approval, and notice of any change in the material will be published in the Federal Register. Entries in paragraphs (c), (d) and (e) of this section with EPA approval dates after October 1, 2003, will be incorporated by reference in the next update to the SIP compilation.

(2) EPA Region VII certifies that the rules/regulations provided by EPA in the SIP compilation at the addresses in paragraph (b)(3) of this section are an exact duplicate of the officially promulgated state rules/regulations which have been approved as part of the SIP as of October 1, 2003.

(3) Copies of the materials incorporated by reference may be inspected at the Environmental Protection Agency, Region VII, Air Planning and Development Branch, 901 North 5th Street, Kansas City, Kansas 66101; the Office of the Federal Register, 800 North Capitol Street, NW., Suite 700, Washington, DC.; or at the EPA, Air and Radiation Docket and Information Center, Room B-108, 1301 Constitution Avenue, NW., (Mail Code 6102T), Washington, DC 20460.

(c) EPA-approved regulations.

EPA—Approved Kansas Regulations
Kansas citation | Title | State effective date | EPA approval date | Explanation
Kansas Department of Health and Environment Ambient Air Quality Standards and Air Pollution Control
General Regulations
K.A.R. 28-19-6 | Statement of Policy | 1/1/72 | 5/31/72, 37 FR 10867 | Kansas revoked this rule 5/1/82.
K.A.R. 28-19-8 | Reporting Required | 1/23/95 | 7/17/95, 60 FR 36361.
K.A.R. 28-19-9 | Time Schedule for Compliance | 5/1/84 | 12/21/87, 52 FR 48265.
K.A.R. 28-19-10 | Circumvention of Control Regulations | 1/1/71 | 5/31/72, 37 FR 10867.
K.A.R. 28-19-11 | Exceptions Due to Breakdowns or Scheduled Maintenance | 1/1/74 | 11/8/73, 38 FR 30867.
K.A.R. 28-19-12 | Measurement of Emissions. | 1/1/71 | 5/31/72, 37 FR 10867.
K.A.R. 28-19-13 | Interference with Enjoyment of Life and Property | 1/1/74 | 11/8/73, 38 FR 30876.
K.A.R. 28-19-14 | Permits Required | 1/24/94 | 7/17/95, 60 FR 36361.
K.A.R. 28-19-15 | Severability | 1/1/71 | 5/31/72, 37 FR 10867.
Nonattainment Area Requirements
K.A.R. 28-19-16 | New Source Permit Requirements for Designated Nonattainment Areas | 10/16/89 | 1/16/90, 55 FR 1422.
K.A.R. 28-19-16a | Definitions | 10/10/97 | 1/11/00, 65 FR 1548.
K.A.R. 28-19-16b | Permit Required | 10/16/89 | 1/16/90, 55 FR 1422.
K.A.R. 28-19-16c | Creditable Emissions Reductions | 10/16/89 | 1/16/90, 55 FR 1422 | The EPA deferred action on the state's current definition of the terms “building, structure, facility, or installation”; “installation ”; and “reconstruction.”
K.A.R. 28-19-16d | Fugitive Emission Exemption | 10/16/89 | 1/16/90, 55 FR 1422.
K.A.R. 28-19-16e | Relaxation of Existing Emission Limitations | 10/16/89 | 1/16/90, 55 FR 1422.
K.A.R. 28-19-16f | New Source Emission Limits | 10/16/89 | 1/16/90, 55 FR 1422.
K.A.R. 28-19-16g | Attainment and Maintenance of National Ambient Air Quality Standards | 10/16/89 | 1/16/90, 55 FR 1422.
K.A.R. 28-19-16h | Compliance of Other Sources | 10/16/89 | 1/16/90, 55 FR 1422.
K.A.R. 28-19-16i | Operating Requirements | 10/16/89 | 1/16/90, 55 FR 1422.
K.A.R. 28-19-16j | Revocation and Suspension of Permit | 10/16/89 | 1/16/90, 55 FR 1422.
K.A.R. 28-19-16k | Notification Requirements | 10/16/89 | 1/16/90, 55 FR 1422.
K.A.R. 28-19-16l | Failure to Construct | 10/16/89 | 1/16/90, 55 FR 1422.
K.A.R. 28-19-16m | Compliance with Provisions of Law Required | 10/16/89 | 1/16/90, 55 FR 1422.
Attainment Area Requirements
K.A.R. 28-19-17 | Prevention of Significant Deterioration of Air Quality | 11/22/02 | 02/26/03, 68 FR 8846 | K.A.R. 28-19-17a through 28-19-17q revoked. Provision moved to K.A.R. 28-19-350.
Stack Height Requirements
K.A.R. 28-19-18 | Stack Heights | 5/1/88 | 4/20/89, 54 FR 15934 | The state requlation has stack height credit. The EPA has not approved that part.
K.A.R. 28-19-18b | Definitons | 5/1/88 | 4/20/89, 54 FR 15934.
K.A.R. 28-19-18c | Methods for Determining Good Engineering Practice Stack Height | 5/1/88 | 4/20/89, 54 FR 15934.
K.A.R. 28-19-18d | Fluid Modeling | 5/1/88 | 4/20/89, 54 FR 15934.
K.A.R. 28-19-18e | Relaxation of Existing Emission Limitations | 5/1/88 | 4/20/89, 54 FR 15934.
K.A.R. 28-19-18f | Notification Requirements | 5/1/88 | 4/20/89, 54 FR 15934.
Continuous Emission Monitoring
K.A.R. 28-19-19 | Continuous Emission Monitoring | 6/8/92 | 1/12/93, 58 FR 3847.
Processing Operation Emissions
K.A.R. 28-19-20 | Particulate Matter Emission Limitations | 10/16/89 | 1/16/90, 55 FR 1421.
K.A.R. 28-19-21 | Additional Emission Restrictions | 10/16/89 | 1/16/90, 55 FR 1422.
K.A.R. 28-19-22 | Sulfur Compound Emissions | 1/1/72 | 11/8/73, 38 FR 30876.
K.A.R. 28-19-23 | Hydrocarbon Emissions—Stationary Sources | 12/27/72 | 11/8/73, 38 FR 30876.
K.A.R. 28-19-24 | Control of Carbon Monoxide Emissions | 1/1/72 | 11/8/73, 38 FR 30876.
Indirect Heating Equipment Emissions
K.A.R. 28-19-30 | General Provisions | 1/1/72 | 5/31/72, 37 FR 10867.
K.A.R. 28-19-31 | Emission Limitations | 11/8/93 | 10/18/94, 59 FR 52425.
K.A.R. 28-19-32 | Exemptions—Indirect Heating Equipment | 11/8/93 | 10/18/94, 59 FR 52425.
Incinerator Emissions
K.A.R. 28-19-40 | General Provisions | 1/1/71 | 5/31/72, 37 FR 10867.
K.A.R. 28-19-41 | Restriction of Emission | 12/27/72 | 11/8/73, 38 FR 30876.
K.A.R. 28-19-42 | Performance Testing | 1/1/72 | 11/8/73, 38 FR 30876.
K.A.R. 28-19-43 | Exceptions | 1/1/71 | 5/31/72, 37 FR 10867.
Air Pollution Emergencies
K.A.R. 28-19-55 | General Provisions | 1/1/72 | 5/31/72, 37 FR 10867.
K.A.R. 28-19-56 | Episode Criteria | 10/16/89 | 1/16/90, 55 FR 1422.
K.A.R. 28-19-57 | Emission Reduction Requirements | 1/1/72 | 5/31/72, 37 FR 10867.
K.A.R. 28-19-58 | Emergency Episode Plans | 1/1/72 | 5/31/72, 37 FR 10867.
Volatile Organic Compound Emissions
K.A.R. 28-19-61 | Definitions | 10/7/91 | 6/23/92, 57 FR 27936.
K.A.R. 28-19-62 | Testing Procedures | 10/7/71 | 6/23/92, 57 FR 27936.
K.A.R. 28-19-63 | Automobile and Light Duty Truck Surface Coating | 11/8/93 | 10/18/94, 59 FR 52425.
K.A.R. 28-19-64 | Bulk Gasoline Terminals | 5/1/88 | 5/18/88, 53 FR 17700.
K.A.R. 28-19-65 | Volatile Organic Compounds (VOC) Liquid Storage in Permanent Fixed Roof Type Tanks | 5/1/88 | 5/18/88, 53 FR 17700.
K.A.R. 28-19-66 | Volatile Organic Compounds (VOC) Liquid Storage in External Floating Roof Tanks | 5/1/88 | 5/18/88, 53 FR 17700.
K.A.R. 28-19-67 | Petroleum Refineries | 5/1/86 | 1/2/87, 52 FR 53.
K.A.R. 28-19-68 | Leaks from Petroleum Refinery Equipment | 5/1/86 | 1/2/87, 52 FR 53.
K.A.R. 28-19-69 | Cutback Asphalt | 5/1/88 | 5/18/88, 53 FR 17700
K.A.R. 28-19-70 | Leaks from Gasoline Delivery Vessels and Vapor Collection Systems | 5/15/98 | 1/11/00, 65 FR 1548.
K.A.R. 28-19-71 | Printing Operations | 5/1/88 | 5/18/88, 53 FR 17700.
K.A.R. 28-19-72 | Gasoline Dispensing Facilities | 5/1/88 | 5/18/88, 53 FR 17700
K.A.R. 28-19-73 | Surface Coating of Miscellaneous Metal Parts and Products and Metal Furniture | 6/8/92 | 1/12/93, 58 FR 3847.
K.A.R. 28-19-74 | Wool Fiberglass Manufacturing | 5/1/88 | 5/18/88, 53 FR 17700.
K.A.R. 28-19-76 | Lithography Printing Operations | 10/7/91 | 6/23/92, 57 FR 27936.
K.A.R. 28-19-77 | Chemical Processing Facilities That Operate Alcohol Plants or Liquid Detergent Plants | 10/7/91 | 6/23/92, 57 FR 27936.
General Provisions
K.A.R. 28-19-200 | General Provisions; definitions | 10/10/97 | 1/11/00, 65 FR 1548 | New rule. Replaces K.A.R. 28-19-7 definitions.
K.A.R. 28-19-201 | General provisions; Regulated Compounds List | 10/10/97 | 1/11/00, 65 FR 1548 | New rule. Replaces Regulated Compounds in K.A.R. 28-19-7.
K.A.R. 28-19-204 | Permit Issuance and Modification; Public Participation | 1/23/95 | 7/17/95, 60 FR 36361.
K.A.R. 28-19-210 | Calculation of Actual Emissions | 11/22/93 | 1/11/00, 65 FR 1548.
K.A.R. 28-19-212 | Approved Test Methods and Emission Compliance Determination Procedures | 1/12/95 | 7/17/95, 60 FR 36361.
Construction Permits and Approvals
K.A.R. 28-19-300 | Applicability | 1/23/95 | 7/17/95, 60 FR 36361.
K.A.R. 28-19-301 | Application and Issuance | 1/23/95 | 7/17/95, 60 FR 36361.
K.A.R. 28-19-302 | Additional Provisions; Construction Permits | 1/23/95 | 7/17/95, 60 FR 36361.
K.A.R. 28-19-303 | Additional Provisions; Construction Approvals | 1/23/95 | 7/17/95, 60 FR 36361.
K.A.R. 28-19-304 | Fees | 1/23/95 | 7/17/95, 60 FR 36361.
K.A.R. 28-19-350 | Prevention of Significant Deterioration of Air Quality | 11/22/02 | 02/26/03, 68 FR 8846.
General Permits
K.A.R. 28-19-400 | General Requirements | 1/23/95 | 7/17/95, 60 FR 36361.
K.A.R. 28-19-401 | Adoption by the Secretary | 1/23/95 | 7/17/95, 60 FR 36361.
K.A.R. 28-19-402 | Availability of Copies; Lists of Sources to Which Permits Issued | 1/23/95 | 7/17/95, 60 FR 36361.
K.A.R. 28-19-403 | Application to Construct or Operate Pursuant to Terms of General Permits | 1/23/95 | 7/17/95, 60 FR 36361.
K.A.R. 28-19-404 | Modification, Revocation | 1/23/95 | 7/17/95, 60 FR 36361.
Operating Permits
K.A.R. 28-19-500 | Applicability | 1/23/95 | 7/17/95, 60 FR 36361.
K.A.R. 28-19-501 | Emissions Limitations and Pollution Control Equipment for Class I and Class II Operating Permits; Conditions | 1/23/95 | 7/17/95, 60 FR 36361.
K.A.R. 28-19-502 | Identical Procedural Requirements | 1/23/95 | 7/17/95, 60 FR 36361.
Class II Operating Permits
K.A.R. 28-19-540 | Applicability | 1/23/95 | 7/17/95, 60 FR 36361.
K.A.R. 28-19-541 | Application Timetable and Contents | 1/23/95 | 7/17/95, 60 FR 36361.
K.A.R. 28-19-542 | Permit-by-Rule | 1/23/95 | 7/17/95, 60 FR 36361.
K.A.R. 28-19-543 | Permit Term and Content; Operational Compliance | 1/23/95 | 7/17/95, 60 FR 36361.
K.A.R. 28-19-544 | Modification of Sources or Operations | 1/23/95 | 7/17/95, 60 FR 36361.
K.A.R. 28-19-545 | Application Fee | 1/23/95 | 7/17/95, 60 FR 36361.
K.A.R. 28-19-546 | Annual Emission Inventory | 1/23/95 | 7/17/95, 60 FR 36361.
K.A.R. 28-19-561 | Permit-by-Rule; Reciprocating Engines | 1/23/95 | 7/17/95, 60 FR 36361.
K.A.R. 28-19-562 | Permit-by-Rule; Organic Solvent Evaporative Sources | 1/23/95 | 7/17/95, 60 FR 36361.
K.A.R. 28-19-563 | Permit-by-Rule; Hot Mix Asphalt Facilities | 1/23/95 | 7/17/95, 60 FR 36361.
K.A.R. 28-19-564 | Permit-by-Rule; Sources with Actual Emissions Less Than 50 Percent of Major Source Thresholds | 10/04/02 | 3/26/03, 68 FR 14541.
Open Burning Restrictions
K.A.R. 28-19-645 | Open Burning Prohibited | 3/1/96 | 10/2/96, 61 FR 51366.
K.A.R. 28-19-646 | Responsibility for Open Burning | 3/1/96 | 10/2/96, 61 FR 51366.
K.A.R. 28-19-647 | Exceptions to Prohibition on Open Burning | 3/1/96 | 10/2/96, 61 FR 51366.
K.A.R. 28-19-648 | Agricultural Open Burning | 3/1/96 | 10/2/96, 61 FR 51366.
K.A.R. 28-19-650 | Emissions Opacity Limits | 1/29/99 | 1/11/00, 65 FR 1548 | New rule. Replaces K.A.R. 28-19-50 and 28-19-52.
Volatile Organic Compound Emissions
K.A.R. 28-19-714 | Control of Emissions from Solvent Metal Cleaning | 9/1/02 | 10/30/02, 67 FR 66060.
K.A.R. 28-19-717 | Control of Volataile Organic Compound (VOC) Emissions from Commercial Bakery Ovens in Johnson and Wyandotte Counties | 12/22/00 | 12/12/01, 66 FR 64148.
K.A.R. 28-19-719 | Fuel Volatility | 4/27/01 | 2/13/02, 67 FR 6658.
Conformity
K.A.R. 28-19-800 | General Conformity of Federal Actions | 3/15/96 | 10/2/96, 61 FR 51366.

(d) EPA-approved State source-specific permits.

EPA-Approved Kansas Source-Specific Permits
Name of source | Permit No. | State effective date | EPA approval date | Explanation
(1) Board of Public Utilities, Quindaro Power Station | 2090048 | 10/20/93 | 10/18/94, 59 FR 52425.
(2) Board of Public Utilities, Kaw Power Station | 2090049 | 10/20/93 | 10/18/94, 59 FR 52425.

(e) EPA-approved nonregulatory provisions and quasi-regulatory measurers.

EPA—Approved Kansas Nonregulatory Provisions
Name of nonregulatory SIP provision | Applicable geographic or nonattainment area | State submittal date | EPA approval date | Explanation
(1) Implementation Plan for Attainment and Maintenance of the National Air Quality Standards | Statewide | 1/31/72 | 5/31/72, 37 FR 10867.
(2) Comments on the Plan in Response to EPA Review | Kansas City | 3/24/72 | 6/22/73, 38 FR 46565. | Correction notice published 3/2/76.
(3) Emergency Episode Operations/Communications Manual | Kansas City | 4/6/72 | 11/8/73, 38 FR 30876. | Correction notice published 3/2/76.
(4) Emergency Episode Operations/Communications Manual | Statewide except Kanasa City | 2/15/73 | 11/8/73, 38 FR 30876. | Correction notice published 3/2/76.
(5) Letter Concerning Attainment of CO Standards | Kansas City | 5/29/73 | 11/8/73, 38 FR 30876. | Correction notice published 3/2/76.
(6) Amendment to State Air Quality Control Law Dealing with Public Access to Emissions Data | Statewide | 7/27/73 | 11/8/73, 38 FR 30876. | Correction notice published 3/2/76.
(7) Analysis and Recommendations Concerning Designation of Air Quality Maintenance Areas | Statewide | 2/2874 | 3/2/76, 41 FR 8960.
(8) Ozone Nonattainment Plan | Kansas City | 9/17/79 | 4/3/81, 46 FR 20165.
(9) Ozone Nonattainment Plan | Douglas County | 10/22/79 | 4/3/81, 46 FR 20165.
(10) TSP Nonattainment Plan | Kansas City | 3/10/80 | 4/3/81, 46 FR 20165. |
(11) Lead Plan | Statewide | 2/17/81 | 10/22/81, 46 FR 51742. |
(12) CO Nonattainment Plan | Wichita | 4/16/81 | 12/15/81, 46 FR 61117. |
(13) Air Monitoring Plan | Statewide | 10/16/81 | 1/22/82, 47 FR 3112. |
(14) Letter and Supporting Documentation Relating to Reasonably Available Control Technology for Certain Particulate Matter Sources | Kansas City | 9/15/81 | 6/18/82, 47 FR 26387. | Correction notice published 1/12/84.
(15) Letter Agreeing to Follow EPA Interim Stack Height Policy for Each PSD Permit Issued Until EPA Revises the Stack Height Regulations | Statewide | 6/20/84 | 12/11/84, 49 FR 48185. |
(16) Letters Pertaining to Permit Fees | Statewide | 3/27/86 9/15/87 | 12/21/87, 52 FR 48265. |
(17) Revisions to the Ozone Attainment Plan | Kansas City | 7/2/86 4/16/87 8/18/87 8/19/87 1/6/88 | 5/18/88, 53 FR 17700. |
(18) Revised CO Plan | Wichita | 3/1/85 9/3/87 | 10/28/88, 53 FR 43691. |
(19) Letter Pertaining to the Effective Date of Continuous Emission Monitoring Regulations | Statewide | 1/6/88 | 11/25/88, 53 FR 47690.
(20) Letters Pertaining to New Source Permit Regulations, Stack Height Regulations, and Stack Height Analysis and Negative Declarations | Statewide | 3/27/86 12/7/87 1/6/88 | 4/20/89, 54 FR 15934.
(21) PM10 Plan | Statewide | 10/5/89 10/16/89 | 1/16/90, 55 FR 1422.
(22) Ozone Maintenance Plan | Kansas City | 10/23/91 | 6/23/92, 57 FR 27936.
(23) Letter Pertaining to PSD NOx Requirements | Statewide | 9/15/92 | 1/12/93, 58 FR 3847.
(24) Small Business Assistance Plan | Statewide | 1/25/94 | 5/12/94, 59 FR 24644.
(25) Letter Regarding Compliance Verification Methods and Schedules Pertaining to the Board of Public Utilities Power Plants | Kansas City | 12/11/92 | 10/18/94, 59 FR 52425.
(26) Emissions Inventory Update Including a Motor Vehicle Emissions Budget | Kansas City | 5/11/95 | 4/25/96, 59 FR 52425.
(27) Air monitoring plan | Statewide | 1/6/02 | 8/30/02, 67 FR 55728.

[FR Doc. 03-28307 Filed 11-13-03; 8:45 am]

BILLING CODE 6560-50-P